COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date added to and deleted from the Procurement List: February 25, 2024.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 12/22/2023, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

PSIN 01251B—Marker, Postal Tray, BBM—Clearance—Tuesday, Orange

PSIN 01251C—Marker, Postal Tray, BBM—Clearance—Wednesday, Green

PSIN 01251D—Marker, Postal Tray, BBM—Clearance—Thursday, Violet

PSIN 01251E—Marker, Postal Tray, BBM—Clearance—Friday, Yellow

PSIN 01251F—Marker, Postal Tray, BBM—Clearance—Saturday, Pink

PSIN 01251G—Marker, Postal Tray, BBM—Clearance—Sunday, White

PSIN 01251A—Marker, Postal Tray, BBM—Clearance—Monday, Blue

PSIN 01250F—Marker, Postal Tray, BBM—Delivery—Saturday, Pink

PSIN 01250E—Marker, Postal Tray, BBM—Delivery—Friday, Yellow

PSIN 01250D—Marker, Postal Tray, BBM—Delivery—Thursday, Violet

PSIN 01250C—Marker, Postal Tray, BBM—Delivery—Wednesday, Green

PSIN 01250B—Marker, Postal Tray, BBM—Delivery—Tuesday, Orange

PSIN 01250A—Marker, Postal Tray, BBM—Delivery—Monday, Blue

PSIN 01249F—Marker, Postal Tray, First Class—Saturday, Pink

PSIN 01249E—Marker, Postal Tray, First Class—Friday, Yellow

PSIN 01249D—Marker, Postal Tray, First Class—Thursday, Violet

PSIN 01249C—Marker, Postal Tray, First Class—Wednesday, Green

PSIN 01249B—Marker, Postal Tray, First Class—Tuesday, Orange

PSIN 01249A—Marker, Postal Tray, First Class—Monday, Blue

Contracting Activity: USPS Vehicles & Delivery and Industrial Equipment CMC, Philadelphia, PA

NSN(s)—Product Name(s):

7045-01-599-2657—Encrypted Compact Disc, Recordable, 25 CDs on Spindle, Silver

7045-01-436-7853—Compact Disc, Recordable, Gold, BX/5

Authorized Source of Supply: North Central Sight Services, Inc., Williamsport, PA

Contracting Activity: DLA TROOP SUPPORT, PHILADELPHIA, PA

NSN(s)—Product Name(s):

7045-01-470-3596—Compact Disc, Rewritable, EA/1

Authorized Source of Supply: North Central Sight Services, Inc., Williamsport, PA

Contracting Activity: GSA/FAS ADMIN SVCS ACQUISITION BR(2, NEW YORK, NY

NSN(s)—Product Name(s):

8970-00-NIB-0034—Personal Hygiene Kit

Authorized Source of Supply: Tarrant County Association for the Blind, Fort Worth, TX

Contracting Activity: GSA/FSS SPECIAL PROGRAMS DIVISION, ARLINGTON, VA

NSN(s)—Product Name(s):

7520-01-619-0302—Portable Desktop Clipboard, 9½″ W x 1½″ D x 13½″ H, Army Green

Authorized Source of Supply: LC Industries, Inc., Durham, NC

Contracting Activity: GSA/FAS ADMIN SVCS ACQUISITION BR(2, NEW YORK, NY

Service(s)

Service Type: Janitorial

Mandatory for: US Army Corps of Engineers, Transatlantic Middle East District, Admiral Byrd Facility, Winchester, VA

Authorized Source of Supply: NW Works, Inc., Winchester, VA

Contracting Activity: DEPT OF THE ARMY, W31R ENDIS MIDDLE EAST

Michael R. Jurkowski,
Acting Director, Business Operations.

[FR Doc. 2024-01599 Filed 1-25-24; 8:45 am]

BILLING CODE 6353-01-P